DEPARTMENT OF HEALTH AND HUMAN SERVICES

Administration for Children and Families

Office of Planning, Research and Evaluation; Notice of Secretary's Advisory Committee Meeting

AGENCY: OPRE, ACF, HHS.

ACTION: Notice of Meeting—Advisory Committee on Head Start Accountability and Educational Performance Measures.

SUMMARY: The Secretary of Health and Human Services, by authority of 42 U.S.C. 9836A, Section 641A(b) of the Head Start Act, as amended (5 U.S.C. Appendix 2), has formed the Advisory Committee on Head Start Accountability and Educational Performance Measures (the Committee). The Committee is governed by the provisions of Public Law 92-463, as amended (5 U.S.C. Appendix 2).

The function of the Committee is to help assess the progress of HHS in developing and implementing educational measures in the Head Start Program. This includes the Head Start National Reporting System (NRS). The Committee is to provide recommendations for integrating NRS with other ongoing assessments of the effectiveness of the program. The Committee will make recommendations as to how NRS and other assessment data can be included in the broader Head Start measurement efforts found in the Family and Child Experiences Survey (FACES), the national Head Start Impact Study, Head Start's Performance Based Outcome System and the ongoing evaluation of the Early Head Start program.

Date: November 1, 2005, 8:30 a.m.-5:30 p.m. (Dinner Recess). November 2, 2005, 8:30 a.m.-4:30 p.m.

Place: The Beacon Hotel, 1615 Rhode Island Ave, NW., Washington, DC 20036.

Agenda: The Committee will hear presentations related to existing Head Start evaluations and NRS implementation and will continue the discussions begun at the first meeting in June 2005.

SUPPLEMENTARY INFORMATION: This, the second meeting of the Committee, is open to the public. Persons wishing to bring written statements or papers focused on relevant, existing research with Head Start populations or on measures appropriate for low-income four- and five-year-old children are welcome to do so. Individuals may e-mail such documents to Secretaryadvisory-hs@esi-dc.com or mail to: ESI, ATTN: Xzavier Wright, Head Start Bureau—Secretary's Advisory Committee, 7735 Old Georgetown Road, Suite 600, Bethesda, Maryland 20814.

Documents received shall be presented to the Committee.

The Committee meeting records shall be kept at the Aerospace Center located at 901 D Street, SW., Washington, DC 20447. The Head Start Bureau will also make material related to this meeting available on the Head Start Web site http://www2.acf.dhhs.gov/programs/hsb/.

An interpreter for the deaf and hard of hearing will be available upon advance request by contacting xzavier@esi-dc.com.

Naomi Goldstein,
Director, Office of Planning, Research and Evaluation.

[FR Doc. 05-20758 Filed 10-17-05; 8:45 am]

BILLING CODE 4184-01-M